DEPARTMENT OF THE INTERIOR

Bureau of Land Management

[LWYD010000 L13140000 EJ0000 18X]

Notice of Termination of the Environmental Impact Statement for the La Barge Platform Project, Sublette and Lincoln Counties, Wyoming

AGENCY: Bureau of Land Management, Interior.

ACTION: Notice of Termination.

SUMMARY: The Bureau of Land Management (BLM) has terminated the preparation of an Environmental Impact Statement (EIS) for the development of approximately 605 new oil and natural gas wells proposed by EOG Resources, Inc. (EOG), entitled the La Barge Platform Project. An additional 175 natural gas wells by other operators were also being considered. The BLM terminated the EIS after project proponents withdrew their proposal, citing changing priorities.

DATES: This Notice takes effect on February 28, 2019.

FOR FURTHER INFORMATION CONTACT: L. McKeever, BLM, telephone: 307-367-5300; address: P.O. Box 768, Pinedale, WY. 82941; email: lmckeeve@blm.gov. Persons using a telecommunications device for the deaf (TDD) may call the Federal Relay Service (FRS) at 800-877-8339. FRS is available 24 hours a day, 7 days a week, to leave a message or question. You will receive a reply during normal business hours.

SUPPLEMENTARY INFORMATION: A Notice of Intent was published in the Federal Register on August 3, 2009, (74 FR 38466) to begin preparing an EIS for the La Barge Platform Project in Sublette County and Lincoln County, WY.

The BLM Field Office in Pinedale, WY, solicited public comments pursuant to section 102(2)(c) of the National Environmental Policy Act (NEPA) of 1969, and in response to a proposal from EOG. The publication of the notice initiated the 45-day public scoping process.

The La Barge Platform Project's project area was located within 3 miles of Big Piney, WY, and within 1 mile of La Barge, WY. After project proponents withdrew their proposal because of changing market forces, preparation of the EIS was terminated in accordance with 40 CFR 1506.6 and 40 CFR 1506.10.

Authority: 40 CFR 1506.6 and 40 CFR 1506.10.

Mary Jo Rugwell,
BLM Wyoming State Director.

[FR Doc. 2019-03596 Filed 2-27-19; 8:45 am]

BILLING CODE 4310-22-P